DEPARTMENT OF THE TREASURY

Bureau of the Fiscal Service

Proposed Collection of Information: TreasuryDirect Customer Feedback

ACTION: Notice and request for comments.

SUMMARY: The Department of the Treasury, as part of its continuing effort to reduce paperwork and respondent burden, invites the general public and other Federal agencies to take this opportunity to comment on a continuing information collection, as required by the Paperwork Reduction Act of 1995, Public Law 104-13 (44 U.S.C. 3506(c)(2)(A). Currently the Bureau of the Fiscal Service within the Department of the Treasury is soliciting comments concerning TreasuryDirect Customer Feedback.

DATES: Written comments should be received on or before November 14, 2016 to be assured of consideration.

ADDRESSES: Direct all written comments and requests for further information to Bureau of the Fiscal Service, Bruce A. Sharp, 200 Third Street A4-A, Parkersburg, WV 26106-1328, or bruce.sharp@fiscal.treasury.gov.

FOR FURTHER INFORMATION CONTACT: Requests for additional information or copies of the form(s) and instructions should be directed to Mike McDougle, Director, Division of Business Systems; 200 Third Street, Room T5-K2, Parkersburg, WV 26106-1328, (304) 480-6268.

SUPPLEMENTARY INFORMATION:

Title: TreasuryDirect Customer Feedback.

Abstract: This is a generic clearance to conduct various surveys, focus groups, and interviews among current and prospective TreasuryDirect customers. The aforementioned collections will assess the effectiveness and efficiency of existing products and services; obtain knowledge about the potential public audiences attracted to new products when introduced; and to measure awareness and appeal of efforts to reach audiences and customers.

Current Actions: New collection.

Type of Review: Regular.

Affected Public: Individuals or households.

Estimated Number of Respondents: 7,500.

Estimated Time per Respondent: 10 minutes.

Estimated Total Annual Burden Hours: 1,250.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: September 12, 2016.
Bruce A. Sharp,
Bureau Clearance Officer.

[FR Doc. 2016-22175 Filed 9-14-16; 8:45 am]

BILLING CODE 4810-AS-P